DEPARTMENT OF JUSTICE

Antitrust Division

Notice Pursuant to the National Cooperative Research and Production Act of 1993—Open Mobile Alliance

Notice is hereby given that, on January 16, 2003, pursuant to section 6(a) of the National Cooperative Research and Production Act of 1993, 15 U.S.C. 4301 et seq. (“the Act”), Open Mobile Alliance (“OMA”) has filed written notifications simultaneously with the Attorney General and the Federal Trade Commission disclosing changes in its membership status. The notifications were filed for the purpose of extending the Act's provisions limiting the recovery of antitrust plaintiffs to actual damages under specified circumstances. Specifically, ACL Wireless Limited, New Delhi, India; Anam Wireless Internet Solutions Limited, Dublin, Ireland; Anite Telecoms Ltd., Fleet, Hants, United Kingdom; Antepo, Inc., New York, NY (joined 9/26/2002); AQRIS Software AS, Talinn, Estonia; Atchik, Toulouse, France; ATI Technologies Inc., Thornhill, Ontario, Canada; Autodesk Location Services, San Rafael, CA; Benq Corporation, Hsinchu, Taiwan; Big Tribe Corporation, San Francisco, CA; BlueFactory, Stockholm, Sweden; BlueLabs South AB, Malmo, Sweden; Borland Software Corporation, Scotts Valley, CA; Camelot Group Plc., Watford, Herts, United Kingdom; Casabyte Inc., Renton, WA; CDMA Development Group, Inc., Costa Mesa, CA; CellPoint AB, Kista, Sweden; Cellsoft, Inc, Pleasanton, CA (joined 10/4/2002); Cognizant Technology Solutions UK Ltd., London, United Kingdom; Commtag Limited, Cambridge, United Kingdom; Communology GmbH, Herzogenrath, Germany; Comsys Communications and Signal, Herzelia, Israel; Consilient Technologies Corporation, St. John's, Newfoundland, Canada; Creanor Oy, Helsinki, Finland (joined 9/30/2002); Critical Path, Inc., San Francisco, CA; Cybiko Advanced Technologies, Bloomingdale, IL; Digital Bridges, LTD, Dunfernline, United Kingdom; Digital World Services, New York, NY; dmates as, Oslo, Norway; DMDsecure, Amsterdam, The Netherlands; DoOnGo, Technologies, Inc., Santa Clara, CA; dynamicsoft inc., East Hanover, NJ; Ecrio Inc., Cupertino, CA; Elvior, Talinn, Estonia; Embedded & Mobile Systems, Inc., Delray Beach, FL (joined 10/21/2002); Everlite Technology Co., Ltd., Taipei, Taiwan; EverInTouch, LTD, Old Coulsdon, Surrey, United Kingdom; EWAP Digital Systems Co. LTD, Beijing, People's Republic of China; France Telecom Group, Paris, France; gate5 AG, Berlin, Germany; Genasys II Spain, S.A., Madrid, Spain; Global Locate, San Jose, CA; Hillcast Technologies Inc., Austin, TX; Hotsip AB, Stockholm, Sweden; Icona s.p.a., Milan, Italy; Infocomm Development Authority of Singapore, Singapore, Singapore; InfoSpace, Inc., Bellevue, WA; Institute For Information Industry, Taipei, Taiwan; Invertix Corporation, Alexandria, VA; J-Phone Co., Ltd., Tokyo, Japan; Jabber. Inc., Denver, CO; Jataayu Software Pvt Ltd., Bangalore, India; JP Mobile, Inc., Dallas, TX; July Systems, Inc, Sunnyvale, CA; Kada Systems, Inc., Burlington, MA; Kalador Entertainment Inc., Delta, British Columbia, Canada; Korea Information Security Agency, Seoul, Republic of Korea; KT ICOM, Seoul, Republic of Korea; Larsen & Toubro Infotech LTD, Navi Mumbai, India; Leapstone Systems, Inc., Somerset, NJ; LocatioNet, Netanya, Israel; Locus Portal Corporation, Helsinki, Finland; M.I.M.T. AB, Malmo, Sweden; magic4 Ltd., Warrington, United Kingdom; Malibu Telecom Oy, Espoo, Finland; MediaSolv.com, Inc., San Jose, CA; Mercator Partners, LLC, Concord, MA; Meridea Financial Software Oy, Helsinki, Finland; Mermit Business Applications Oy, Espoo, Finland; MessageVine, Inc., San Francisco, CA; Metrowalker LTD, Hong Kong, Hong Kong-China; Mobeon AB, Stockholm, Sweden; Mobile GIS LTD, Glanmire, Ireland; Mobilespring, New York, NY; Mobilesys Inc., Mountain View, CA; Mobileway, Puteaux, France; Neosteps, Inc., Gyeonggi-do, Republic of Korea; Network Associates, Inc., Santa Clara, CA; Netxcalibur SRL, Florence, Italy; Neumobility, Seattle, WA; NSTL, Inc, Conshohocken, PA (joined 10/4/2002); Oksijen Teknoloji Gelistirme ve Bilisim, Bakirkoy-Istanbul, Turkey; Opera Software ASA, Oslo, Norway; PalmSource Inc., Sunnyvale, CA; PictureIQ Corporation, Seattle, WA; Pinpoint Networks, Cary, NC; Portugal Telecom Inovacao, S.A., Aveiro, Purtugal; Psion Digital, London, United Kingdom; PumaTech, San Jose, CA; Push Messenger, Courbevoie, France; Racal Instruments, Slough, Berkshire, United Kingdom; RedKnee Inc., Mississauga, Ontario, Canada; Research Institute of Telecommunications, Beijing, People's Republic of China; Sasken Communication Technologies Limited, Bangalore, India; SDC Secure Digital Container AG, Basel, Switzerland; Secured By Design Ltd., Milton Keynes, United Kingdom (joined 9/26/2002); Sierra Wireless, Richmond, British Columbia, Canada; Simbit Corporation, Ottawa, Ontario, Canada; Sinpag, Saint Maur des Fosses, France; SiRF Technology, Inc., Los Angeles, CA; Sofor Oy, Kauhava, Finland; Softbank Mobile Corp., Tokyo, Japan; Solid Information Technology, Mountain View, CA; Sonim Technologies, Inc., San Mateo, CA; Sony Corporation, Tokyo, Japan; Spirent Communications, Inc., Eatontown, NJ; Starfish Software, Inc., Scotts Valley, CA; SupportSoft, Inc, Redwood City, CA; Swisscom Mobile Ltd., Bern, Switzerland; Tahoe Networks, San Jose, CA; Taral Networks, Inc., Kanata, Ontario, Canada; TeleMessage Ltd., Petach Tikvah, Israel; Telenity, Inc., Monroe, CT; Telespree Communications, San Francisco, CA; Tricomtek Co., Ltd., Seoul, Republic of Korea; Ukibi, Inc., New York, NY (joined 9/26/2002); Unisys Corporation, Plano, TX; V-Enable Inc., San Diego, CA; Vayusphere, Inc., Mountain View, CA; Verdisoft Corporation, Palo Alto, CA; Vimatix, Inc., Wilmington, DE; Vox Mobili, Paris, France; Voyant Technologies, Inc., Westminster, CO; Watercove Networks, Chelmsford, MA; WaveMarket, Inc., Emeryville, CA; WDC Solutions Pvt Ltd., Bangalore, India; Weblicon Technologies AG, Berlin, Germany; Webmessenger, Inc., Tuunga, CA; whereonearth, London, United Kingdom; Wiral Ltd., Espoo, Finland; Wirelex Soft, Toronto, Ontario, Canada; XandMail, Paris La Courneuve, France; YesMobile Taipei Ltd, Taipei, Taiwan; and Zentek Technology, Inc., Redwood City, CA have been added as parties to this venture. Telia Mobile AB, Nacka Strand, Sweden has acquired Sonera Corporation, Helsinki, Finland. Aspiro, Malmo, Sweden has changed its name to Aspiro AB. StarMedia Networks, Inc., Miami, FL has changed its name to CycleLogic Mobile Solutions. Extended Systems, Inc., Boise, ID has changed its name to Extended Systems. Hutchison Telephone Co. Ltd., Hong Kong, Hong Kong-China has changed its name to Hutchison 3G. Matshushita Communication Industrial Co., Ltd., Yokohama, Japan has changed its name to Panasonic Mobile Communications Co., Ltd. Research Institute of Telecommunications Transmission, MII, Beijing, People's Republic of China has changed its name to Research Institute of Telecommunications Transmission, MII China. Schlumberger Systems, Montrouge, France has changed its name to SchlumbergerSema. VoiceStream Wireless, Bellevue, WA has changed its name to T-Mobile USA. Telia Mobile AB, Nacka Strand, Sweden has changed its name to TeliaSonera AB. TTP Communications Ltd, Melbourn, Royston, Hertfordshire, United Kingdom has changed its name to TIPCOM, Ltd.

The following companies had their memberships cancelled: MobileSpear, Inc., Tel Aviv, Israel; Mobileum, Inc., Pleasanton, CA; Neomar, San Francisco, CA; Seven, Redwood City, CA; Speedware Corporation, St. Laurent, Quebec, Canada; and Ubicco, Paris, France.

The following companies have resigned: Akumiiti Ltd., Helsinki, Finland; Antepo, Inc., New York, NY (resigned 12/31/2002); ArgoGroup, Surrey, West Sussex, United Kingdom; Baltimore Technologies, Dublin, Ireland; Banksys, Brussels, Belgium; Bouygues Telecom, Velizy Cedex, France; Cellsoft, Inc., Pleasanton, CA (resigned 12/31/2002); Citrix Systems, Inc., Gerrards Cross, Bucks, United Kingdom; CMG Wireless Data Solutions B.V., Nieuwegein, The Netherlands; CoCoNet AG, Erkrath, Germany; Creanor Oy, Helsinki, Finland (resigned 12/31/2002); Embedded & Mobile Systems, Inc., Delray Beach, FL (resigned 12/31/2002); Entrust, Addison, TX; Hitachi, Ltd., Tokyo, Japan; IrisCube SpA, Milano, Italy; Kenwood Corporation, Kanagawa, Japan; Mitsui & Co, Ltd., Tokyo, Japan; Mobile Economy Ltd., Rosh Ha'ayin, Israel; Mobileaware Limited, Dublin, Ireland; mobileID, Inc., Menlo Park, CA; NSTL, Inc., Conshohocken, PA (resigned 12/31/2002); Pioneer Corporation, Saitama-ken, Japan; S.E.S.A. Software und Systeme AG, Eschborn/Ts, Germany; SAS, Cary, NC; Secured By Design Ltd., Milton Keynes, United Kingdom (resigned 12/31/2002); Singtel Optus Pty. Ltd., North Sydney, New South Wales, Australia; Stellent, Inc., Eden Prairie, MN; Sybase, Inc., Waterloo, Ontario, Canada; TrustLink AB, Stockholm, Sweden; Tu-Ka Cellular Tokyo Inc., Tokyo, Japan; UBS AG, Zurich, Switzerland; Ukibi, Inc., New York, NY (resigned 12/31/2002); and Zurich Cantonalbank, Zurich, Switzerland.

No other changes have been made in either the membership or planned activity of the group research project. Membership in this group research project remains open, and Open Mobile Alliance intends to file additional written notification disclosing all changes in membership.

On March 18, 1998, Open Mobile Alliance filed its original notification pursuant ot section 6(a) of the Act. The Department of Justice published a notice in the Federal Register pursuant to section 6(b) of the Act on December 31, 1998 (63 FR 72333).

The last notification was filed with the Department on May 3, 2002. A notice was published in the Federal Register pursuant to section 6(b) of the Act on June 27, 2002 (67 FR 43343).

Constance K. Robinson,
Director of Operations, Antitrust Division.

[FR Doc. 03-10087 Filed 4-23-03; 8:45 am]

BILLING CODE 4410-11-M